DEPARTMENT OF ENERGY

Federal Energy Regulatory Commission

[Project No. 2100-119 California]

California Department of Water Resources; Notice of Availability of Final Environmental Assessment

August 19, 2004.

In accordance with the National Environmental Policy Act of 1969, as amended, and the Federal Energy Regulatory Commission's (Commission or FERC) regulations (18 CFR Part 380), the Commission staff reviewed an application for amendment to the approved recreation plan for the Feather River Project (FERC Project No. 2100) and prepared a final environmental assessment (FEA) on the application. The project is located on the Feather River in Butte County, California, near the city of Oroville.

Specifically, the project licensee, the California Department of Water Resources, requested that the Commission amend the approved recreation plan for the project to allow shared use of certain recreational trails within the project boundaries. In the FEA, the Commission staff analyzes the probable environmental effects of the proposed amendment and concludes that the proposal should not be approved at this time.

The FEA is attached to a Commission order titled “Order Denying Request to Amend Recreation Plan,” which was issued August 17, 2004, and is available for review in the Commission's Public Reference Room located at 888 First Street, NE., Room 2A, Washington, DC 20426. The FEA also may be viewed on the Commission's website (http://www.ferc.gov) using the “eLibrary” link. Additional information about the project is available from the Commission's Office of External Affairs, at (202) 502-8004. You may register online at http://www.ferc.gov/docs-filing/esubscription.asp to be notified via e-mail of new filings and issuances related to this or other pending projects. For assistance, contact FERCOnlineSupport@ferc.gov or toll-free at (866) 208-3676, or for TTY, (202) 502-8659.

Any comments on the FEA should be filed within 30 days of the date of this notice and should be addressed to Magalie Roman Salas, Secretary, Federal Energy Regulatory Commission, 888 First Street, NE., Washington, DC 20426. Please reference “Feather River Project, FERC Project No. 2100-119” on all comments. Comments may be filed electronically via the Internet in lieu of paper. See 18 CFR 385.2001(a)(1)(iii) and the instructions on the Commission's Web site under the eFiling link.

Linda Mitry,
Acting Secretary.

[FR Doc. E4-1947 Filed 8-25-04; 8:45 am]

BILLING CODE 6717-01-P